DEPARTMENT OF THE INTERIOR

Fish and Wildlife Service

Notice of Availability of the Final Devils River Minnow Recovery Plan

AGENCY: Fish and Wildlife Service, Interior.

ACTION: Notice of document availability.

SUMMARY: The U.S. Fish and Wildlife Service (Service) announces the availability of the approved recovery plan for the Devils River Minnow (Dionda diaboli). The Devils River minnow is known to occur in streams in Kinney and Val Verde Counties, Texas, and Coahuila, Mexico. The threats facing the species include: Habitat loss due to declining surface water flows from springs, pollution to streams, and impacts from nonnative species. The recovery plan outlines the necessary criteria, objectives and tasks to reduce these threats and accomplish the goal of delisting the Devils River minnow.

ADDRESSES: A copy of the final recovery plan may be requested by contacting Austin Ecological Services Field Office, 10711 Burnet Road, Suite 200, Austin, Texas 78758, or on the Internet at http://www.fws.gov/endangered/recovery/.

FOR FURTHER INFORMATION CONTACT: Field Supervisor, Austin Ecological Services Field Office, at the above address; telephone (512) 490-0057, facsimile (512) 490-0974.

SUPPLEMENTARY INFORMATION:

Background

Restoring an endangered or threatened animal or plant to the point where it is again a secure, self-sustaining member of its ecosystem is a primary goal of the Service's endangered species program. To help guide the recovery effort, the Service is working to prepare recovery plans for most of the listed species native to the United States. Recovery plans describe actions considered necessary for conservation of species, establish criteria for downlisting or delisting them, and estimate time and cost for implementing the recovery measures needed.

The Endangered Species Act of 1973 (Act), as amended (16 U.S.C. 1531 et seq.), requires the development of recovery plans for listed species unless such a plan would not promote the conservation of a particular species. Section 4(f) of the Act, as amended in 1988, requires that public notice and an opportunity for public review and comment be provided during recovery plan development. The Service considers all information presented during a public comment period prior to approval of each new or revised recovery plan. The Service and others also take these comments into account in the course of implementing recovery plans.

The Devils River minnow (Dionda diaboli) was listed as threatened on October 20, 1999, under authority of the Act. A draft of the Devils River Minnow Recovery Plan was issued on February 23, 2005, and public comments and peer reviewer comments were received until April 11, 2005 (70 FR 8818). The Service received 10 responses during the comment period from interested parties. Of these, 6 provided substantive comments. We also received comments from 5 peer reviewers. The recovery plan was updated to address many of the comments and specific responses for the most substantive comments are summarized in Appendix D of the final recovery plan.

The recovery plan describes the goals, objectives, criteria, strategies, and specific tasks necessary for achieving recovery of the Devils River minnow. The goal is to improve the status of the species so that it may be removed from the list of species protected under the Act. Generally, the Devils River Minnow Recovery Plan describes the needs for conservation of the existing habitat (including conserving groundwater aquifers and surface water flows and preventing local pollution), control of non-native species, and possibly restoring an additional population within the historic range of Devils River minnow at Las Moras Creek. The recovery plan describes the specific criteria for delisting and the necessary recovery actions to accomplish that goal based on the best available scientific information.

Authority: The authority for this action is Section 4(f) of the Endangered Species Act, 16 U.S.C. 1533(f).

Dated: August 10, 2005.
Nancy J. Gloman,
Acting Regional Director.

[FR Doc. 05-18055 Filed 9-12-05; 8:45 am]

BILLING CODE 4310-55-P